SECURITIES AND EXCHANGE COMMISSION

Proposed Collection; Comment Request

Upon Written Request, Copies Available From: U.S. Securities and Exchange Commission, Office of Investor Education and Advocacy, Washington, DC 20549-0213.

Extension:

Form BD-N/Rule 15b11-1; SEC File No. 270-498; OMB Control No. 3235-0556.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Rule 15b11-1 (17 CFR 240.15b11-1) requires that futures commission merchants and introducing brokers registered with the Commidity Futures Trading Commission that conduct a business in security futures products must notice-register as broker-dealers pursuant to Section 15(b)(11)(A) of the Securities Exchange Act of 1934 (15 U.S.C. 78a et seq.). Form BD-N (17 CFR 249.501b) is the Form by which these entities must notice register with the Commission.

The total annual burden imposed by Rule 15b11-1 and Form BD-N is approximately 8 hours, based on approximately 21 responses (10 initial filings + 11 amendments). Each initial filing requires approximately 30 minutes to complete and each amendment requires approximately 15 minutes to complete. There is no annual cost burden.

The Commission will use the information collected pursuant to Rule 15b11-1 to understand the market for securities futures product and fulfill its regulatory obligations.

Written comments are invited on: (a) Whether the proposed collection of information is necessary for the proper performance of the functions of the agency, including whether the information has practical utility; (b) the accuracy of the agency's estimate of the burden of the proposed collection of information; (c) ways to enhance the quality, utility and clarity of the information to be collected; and (d) ways to minimize the burden of the collection of information on respondents, including through the use of automated collection techniques or other forms of information technology. Consideration will be given to comments and suggestions submitted in writing within 60 days of this publication.

Comments should be directed to Jeffrey Heslop, Acting Director/Chief Information Officer, Securities and Exchange Commission, c/c Remi Pavlik-Simon, 6432 General Green Way, Alexandria, Virginia 22312 or send an e-mail to: PRA_Mailbox@sec.gov.

Dated: October 4, 2010.
Florence E. Harmon,
Deputy Secretary.

[FR Doc. 2010-25501 Filed 10-8-10; 8:45 am]

BILLING CODE 8011-01-P